DEPARTMENT OF HEALTH AND HUMAN SERVICES

Centers for Disease Control and Prevention

[60Day-24-1355; Docket No. CDC-2024-0022]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Evaluation of the Division of Overdose Prevention Technical Assistance Center. This data collection allows CDC to collect information from partner organizations regarding feedback on their experiences receiving technical assistance.

DATES: CDC must receive written comments on or before July 8, 2024.

ADDRESSES: You may submit comments, identified by Docket No. CDC-2024-0022 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of the Division of Overdose Prevention Technical Assistance Center (OMB Control No., 0920-1355, Exp. 11/30/202)—Revision—National Center for Injury Prevention and Control (NCIPC), Centers for Disease Control and Prevention (CDC).

Background and Brief Description

The Centers for Disease Control and Prevention (CDC) is submitting a Revision request for the currently approved Evaluating the Overdose Data to Action TA Hub (OMB Control No. 0920-1355, Exp. Date 11/30/2024) for three years. CDC requests a three-year OMB approval to support the evaluation of technical assistance (TA) provided for the Overdose Data to Action (OD2A) in States (S) and OD2A: Limiting Overdose through Collaborative Actions in Localities (LOCAL) programs. OD2A-S and OD2A: LOCAL are cooperative agreements funded in 2023 to focus on comprehensive and interdisciplinary opioid overdose prevention efforts in 49 state health departments, 39 localities, Puerto Rico, and Washington, DC. Each program consists of two required components—a surveillance component and a prevention component. OD2A recipients implement a combination of activities across nine state strategies and eight local strategies within these components in order to gain access to high quality, complete, and timelier data on opioid prescribing and overdoses and to use those data to inform prevention and response efforts in their jurisdictions.

In the previously approved iteration of this data collection, the information collected surrounding OD2A (version 1.0) recipient feedback on their experiences receiving TA proved invaluable in the process of improving TA delivery and overall providing more useful TA. The feedback provided in the original data collection instruments was also used to improve the TA Strategy of the updated iterations of OD2A (including OD2A-S and OD2A: LOCAL) and their recipients. With the information that was collected in the previously approved ICR, CDC can more effectively deliver TA to an almost-doubled recipient group across two programs instead of one and ensure that continuous improvement in TA is occurring. Further information gathering through the two new instruments proposed in this ICR (the Implementation Feedback Form and the Focus Group script), will even more acutely enhance TA perspectives and needs to effectively and responsibly utilize the DOP TA Center resource.

Training and technical assistance (TA) is essential to building knowledge and strengthening the capacity of recipients to implement and evaluate OD2A program strategies. CDC will develop and deploy a TA hub (hereafter referred to as the DOP TA Center) to deliver comprehensive technical assistance and training to support the successful implementation and evaluation of surveillance and prevention activities. The DOP TA Center is designed to enhance the efficiency, coordination, and effectiveness of TA efforts by streamlining and centralizing the provision of overdose surveillance and prevention TA. TA to OD2A recipients is divided into four different levels with multiple modes of TA delivery and involves a wide range of TA providers including CDC staff, internal and external subject matter experts (SMEs) and program partners as well as Tanaq and ICF staff. The four TA levels below are used to direct the process for engaging stakeholders to support program recipients and triage appropriate resources to support their needs.

CDC requests OMB approval for an estimated 388 annual burden hours. There is no cost to respondents other than their time to participate.

Estimated Annualized Burden Hours
Type of respondents | Form name | Number of respondents | Number of responses per respondent | Average burden per response (in hours) | Total burden (in hours)
OD2A (OD2A in States and OD2A: LOCAL) Recipients | Individual TA Feedback Form | 618 | 2 | 5/60 | 103
| Universal TA Feedback Form | 617 | 2 | 5/60 | 103
| Implementation Feedback Survey | 18 | 1 | 15/60 | 4.5
| Annual Technical Assistance Survey | 162 | 1 | 10/60 | 27
| Email invitation for Annual | 900 |  | 2/60 | 30
| Focus Group Session Script | 100 | 1 | 1 | 100
| Focus Groups Email invitation | 600 | 1 | 2/60 | 20
Total |  |  |  |  | 388

Jeffrey M. Zirger,
Lead, Information Collection Review Office, Office of Public Health Ethics and Regulations, Office of Science, Centers for Disease Control and Prevention.

[FR Doc. 2024-09843 Filed 5-6-24; 8:45 am]

BILLING CODE 4163-18-P